DEPARTMENT OF TRANSPORTATION

Federal Aviation Administration

Notice of Availability of Draft Environmental Impact Statement (DEIS), Notice of Public Comment Period for the DEIS and Schedule of Public Information Meetings and Public Hearings for Proposed Development Activities at the Juneau International Airport, Juneau, AK

AGENCY: Federal Aviation Administration (FAA), Department of Transportation (DOT). The U.S. Army Corps of Engineers (USACE), U.S. Fish and Wildlife Service (USFWS), National Marine Fisheries Services (NMFS) and Alaska Department of Fish and Game (ADF&G) are cooperating agencies, by virtue of their jurisdictional authority and/or resources management responsibilities.

ACTION: Notice of availability, notice of comment period, notice of public information meeting and public hearing.

SUMMARY: The Federal Aviation Administration is issuing this notice to advise the public that a Draft Environmental Impact Statement (DEIS) for Proposed Development Activities at the Juneau International Airport (JNU) has been prepared and is available for public review and comment. Written requests for the DEIS and written comments on the DEIS can be submitted to the individual listed in the section FOR FURTHER INFORMATION CONTACT. Public information meetings and public hearings will be held on June 1 and June 2, 2005. The public comment period will commence on April 29, 2009 and will close on June 30, 2005.

Public Comment and Information Meetings/Public Hearings: The start of the public comment period on the DEIS will be April 29, 2005 and will end on June 30, 2005. Two combined public Information meetings and public hearings will be held on June 1 and June 2, 2005, at different times to accommodate differences in availability of interested parties. The public information meeting on Wednesday, June 1 will begin at 3 p.m. (ADT) and will last until 5 p.m. (ADT). The public hearing on that date will begin shortly after the public information meeting, at 5:30 p.m. (ADT). The public information meeting on Thursday, June 2 will begin at 5 p.m. (ADT) and will last until 7 p.m. (ADT). The public hearing on that date will begin shortly after the public information meeting, at 7:30 p.m. (ADT). The location for both of the Public Information Meetings/Public Hearings is Centennial Hall, 101 Egan Drive, Juneau, AK 99801.

DEIS Availability and Review

Copies of the DEIS may be viewed during regular business hours at the following locations:

1. Federal Aviation Administration, Airports Division, 222 W. 7th Avenue #14, Anchorage, AK 99513-7504. (907) 271-5454 or (907) 271-3813.

2. Juneau International Airport, Airport Managers Office, 1873 Shell Simmons Drive, Juneau, AK (907) 789-7821.

3. Valley Branch Public Library, Mendenhall Mall, Juneau, AK 99801. (907) 789-0125.

4. Downtown Juneau Public Library, 292 Marine Way, Juneau, AK 99801. (907) 586-5249.

The Juneau International Airport, Airport Managers Office has a limited number of CDs of the entire DEIS and Executive Summaries available for public distribution. Please contact the Airport Managers office at (907) 789-7821 for a copy.

Comments from interested parties on the DEIS are encouraged and may be presented verbally at the public hearings. Written comments may be submitted to the FAA during the public information meetings and hearings and at the address listed in the section entitled FOR FURTHER INFORMATION CONTACT. On-line comments may be submitted using the form provided at the project Web site http://www.jnu-eis.org by following the links to Public Comment Form.

FAA encourages all interested parties to provide comments concerning the scope and content of the Draft EIS. Comments should be as specific as possible and address the analysis of potential environmental impacts and the adequacy of the proposed action or merits of alternatives and the mitigation being considered. Reviewers should organize their participation so that it is meaningful and makes the agency aware of the viewer's interests and concerns using quotations and other specific references to the text of the Draft EIS and related documents. Matters that could have been raised with specificity during the comment period on the Draft EIS may not be considered if they are raised later in the decision process. This commenting procedure is intended to ensure that substantive comments and concerns are made available to the FAA in a timely manner so that the FAA has an opportunity to address them.

SUPPLEMENTARY INFORMATION: This DEIS discloses the environmental consequences associated with proposed development activities at the Juneau International Airport (JNU). JNU and the FAA have proposed a number of actions designed to enhance operational safety, facilitate aircraft alignment with Runway 26, and improve Airport facilities, including:

• Bring the Airport into compliance with FAA standards for runway safety area,

• Improve navigational alignment with Runway 26 at night and during poor weather,

• Construct and use a new, larger snow removal equipment and maintenance facility,

• Developed an improved, safer, and more secure access route to the fuel farm,

• Construct new aircraft parking and storage facilities to meet existing and future demands, and

• Implement an improved wildlife hazard management program that will reduce potential for aircraft collisions with wildlife.

The proposed Airport improvements would be completed during the 2005-2015 time period and, depending on the alternatives implemented, may result in temporary or long-term impacts to wetlands, water quality, wildlife habitat, vegetation, essential fish habitat, visual quality, socioeconomics, air, noise and two DOT 4(f) properties, the Dike Trail and the Mendenhall Wetlands State Game Refuge.

The purpose and need for these improvements is reviewed in the DEIS. All reasonable, prudent and feasible alternative are being considered, including the no-action alternative.

FOR FURTHER INFORMATION CONTACT: Patti Sullivan, Environmental Specialist, Federal Aviation Administration, Alaskan Region, Airports Division, 222 W. 7th Avenue #14, Anchorage, AK 99513-7504. Ms. Sullivan may be contacted during business hours at (907) 271-5454 (phone) and (907) 271-2851 (facsimile).

The comment period will close on June 30, 2005.

Issued in Anchorage, Alaska on April 5, 2005.
David G. Wahto,
Acting Manager, Airports Division, Alaskan Region.

[FR Doc. 05-7429 Filed 4-12-05; 8:45 am]

BILLING CODE 4910-13-M